DEPARTMENT OF ENERGY

Federal Energy Regulatory Commission

[Project No. 3240-040—New Hampshire Rolfe Canal Hydroelectric Project; Project No. 6689-018—New Hampshire Penacook Upper Falls Hydroelectric Project; Project No. 3342-025—New Hampshire Penacook Lower Falls Hydroelectric Project]

Briar Hydro Associates, LLC; Notice of Waiver Period for Water Quality Certification Application

On November 28, 2023, Briar Hydro Associates, LLC submitted to the Federal Energy Regulatory Commission (Commission) a copy of its applications for Clean Water Act section 401(a)(1) water quality certifications filed with the New Hampshire Department of Environmental Services, in conjunction with the above captioned projects. Pursuant to 40 CFR 121.6 and section [4.34(b)(5), 5.23(b), 153.4, or 157.22] of the Commission's regulations,¹ we hereby notify the New Hampshire Department of Environmental Services of the following:

¹ 18 CFR [4.34(b)(5)/5.23(b)/153.4/157.22].

Date of Receipt of the Certification Requests: November 28, 2023.

Reasonable Period of Time to Act on the Certification Requests: One year, November 28, 2024.

If the New Hampshire Department of Environmental Services fails or refuses to act on the water quality certification requests on or before the above date, then the agency certifying authority is deemed waived pursuant to section 401(a)(1) of the Clean Water Act, 33 U.S.C. 1341(a)(1).

Dated: January 19, 2024.
Debbie-Anne A. Reese,
Acting Secretary.

[FR Doc. 2024-01469 Filed 1-24-24; 8:45 am]

BILLING CODE 6717-01-P